DEPARTMENT OF ENERGY

Federal Energy Regulatory Commission

[Project No. 13755-006]

FFP Missouri 12, LLC; Notice of Application for Amendment of License, Soliciting Comments, Motions To Intervene, and Protests

Take notice that the following hydroelectric application has been filed with the Commission and is available for public inspection:

a. Type of Proceeding: Application for non-capacity amendment of license.

b. Project No.: 13755-006.

c. Date Filed: January 19, 2021.

d. Licensee: FFP Missouri 12, LLC.

e. Name of Project: Allegheny Lock and Dam 2 Hydroelectric Project.

f. Location: The project is located on the Allegheny River in the City of Sharpsburg in Allegheny County, Pennsylvania.

g. Filed Pursuant to: Federal Power Act, 16 U.S.C. 791a-825r.

h. Licensee Contact: Paul Jacob, FFP Missouri 12, LLC, c/o Rye Development, 745 Atlantic Ave, 8th Floor, Boston, MA 02111, (617) 7010-3288, paul@ryedevelopment.com.

i. FERC Contact: Rebecca Martin, (202) 502-6012, Rebecca.martin@ferc.gov.

j. Deadline for filing comments, interventions, and protests Deadline for filing comments, motions to intervene, and protests: March 25, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-13755-006. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The Allegheny Lock and Dam Project has not yet been constructed. The applicant is proposing to modify the approved project works identified in Ordering Paragraph (B) of the Order Issuing Original License, issued March 13, 2017, to: (1) Change the design of the intake channel and intake structure to a combined reinforced concrete “U” section 150-foot-long, 90-foot-wide, and 57-foot-high; (2) delete the two 45-foot-wide, 40-foot-high spill gates from the intake structure; (3) delete the 1,100-foot-long series of 2.5-foot-high adjustable crest gates on top of the dam; (4) change the design of the powerhouse (the powerhouse will remain a concrete structure supported on a mat foundation but will be decreased in size from 180-foot long, 170-foot wide, and 70-foot high to a building 150-foot long, 90-foot wide, and 70-foot high); (5) decrease the number of generating units from three identical Kaplan turbine generators having an installed capacity of 17 megawatts (MW) to two identical 5.0 MW units for a combined installed capacity of 10.0 MW; and (6) change the design of the tailrace to an excavated channel 150-foot-long and 90-foot-wide. As a result of these modifications the approved 17 MW generating capacity would be reduced to 10 MW and the size of the project boundary would be decreased to accommodate the smaller footprint of the project.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: February 23, 2021.
Kimberly D. Bose,
Secretary.

[FR Doc. 2021-04153 Filed 2-26-21; 8:45 am]

BILLING CODE 6717-01-P